DEPARTMENT OF HEALTH AND HUMAN SERVICES

National Institutes of Health

Eunice Kennedy Shriver National Institute of Child Health and Human Development; Amended Notice of Meeting

Notice is hereby given of a change in the meeting of the Population Sciences Subcommittee, February 9, 2017, 08:00 a.m. to February 9, 2017, 05:00 p.m., Residence Inn Bethesda, 7335 Wisconsin Avenue, Bethesda, MD, 20814 which was published in the Federal Register on December 18, 2017, Vol. 82 242479 Pg. 60026.

The meeting date has changed from February 9, 2017, 8:00 a.m. to 5:00 p.m. to February 9, 2018, 8:00 a.m. to 5:00 p.m. The meeting is closed to the public.

Dated: January 10, 2018.
Michelle Trout,
Program Analyst, Office of Federal Advisory Committee Policy.

[FR Doc. 2018-00868 Filed 1-18-18; 8:45 am]

BILLING CODE 4140-01-P